DEPARTMENT OF DEFENSE

GENERAL SERVICES ADMINISTRATION

NATIONAL AERONAUTICS AND SPACE ADMINISTRATION

48 CFR Chapter 1

Federal Acquisition Circular 2005-08; Introduction

AGENCIES: Department of Defense (DoD), General Services Administration (GSA), and National Aeronautics and Space Administration (NASA).

ACTION: Summary presentation of interim rule.

SUMMARY: This document summarizes the Federal Acquisition Regulation (FAR) rule agreed to by the Civilian Agency Acquisition Council and the Defense Acquisition Regulations Council in this Federal Acquisition Circular (FAC) 2005-08. A companion document, the Small Entity Compliance Guide (SECG), follows this FAC. The FAC, including the SECG, is available via the Internet at http://www.acqnet.gov/far.

DATES: For effective date and comment date, see separate document which follows.

FOR FURTHER INFORMATION CONTACT: For clarification of content, contact the analyst whose name appears in the table below in relation to the FAR case. Please cite FAC 2005-08, FAR case 2005-030. Interested parties may also visit our Web site at http://www.acqnet.gov/far. For information pertaining to status or publication schedules, contact the FAR Secretariat at (202) 501-4755.

Item | Subject | FAR case | FAR Analyst
I | Trade Agreements—Thresholds (Interim) | 2005-030 | Marshall.

SUPPLEMENTARY INFORMATION: A summary for the FAR rule follows. For the actual revisions and/or amendments to this FAR case, refer to the specific item number and subject set forth in the document following this item summary.

FAC 2005-08 amends the FAR as specified below:

Item I—Trade Agreements—Thresholds (Interim)(FAR Case 2005-030)

This interim rule changes the thresholds for application of the World Trade Organization Government Procurement Agreement and the other Free Trade Agreements with Canada, Mexico, Chile, Singapore, and Australia. These threshold increases occur every two years in order to keep pace with inflation. The United States Trade Representative published the thresholds in the December 12, 2005, Federal Register (70 FR 73510 to 73511).

Dated: December 28, 2005.
Gerald Zaffos,
Director, Contract Policy Division.

Federal Acquisition Circular

Federal Acquisition Circular (FAC) 2005-08 is issued under the authority of the Secretary of Defense, the Administrator of General Services, and the Administrator for the National Aeronautics and Space Administration.

Unless otherwise specified, all Federal Acquisition Regulation (FAR) and other directive material contained in FAC 2005-08 is effective January 5, 2006.

Dated: December 23, 2005.
Domenic C. Cipicchio,
Acting Director, Defense Procurement and Acquisition Policy.

Dated: December 23, 2005.
Roger Waldron,
Acting Senior Procurement Executive, Office of the Chief Acquisition Officer, General Services Administration.

Dated: December 28, 2005.
Anne Guenther,
Acting Assistant Administrator for Procurement, National Aeronautics and Space Administration.

[FR Doc. 06-53 Filed 1-4-06; 8:45 am]

BILLING CODE 6820-EP-S